DEPARTMENT OF THE INTERIOR

Bureau of Land Management

[CA-942-5700-BJ-044B]

Filing of Plats of Survey; California

AGENCY: Bureau of Land Management, Interior.

ACTION: Notice.

SUMMARY: The purpose of this notice is to inform the public and interested state and local government officials of the latest filing of Plats of Survey in California.

EFFECTIVE DATE: Unless otherwise noted, filing was effective at 10:00 a.m. on the next federal work day following the plat acceptance date.

FOR FURTHER INFORMATION CONTACT: Lance J. Bishop, Chief, Branch of Geographic Services, Bureau of Land Management (BLM), California State Office, 2800 Cottage Way, Room W-1834, Sacramento, CA 95825, (916) 978-4310.

SUPPLEMENTARY INFORMATION: The plats of Survey of lands described below have been officially filed at the California State Office of the Bureau of Land Management in Sacramento, California.

Mount Diablo Meridian, California

T. 33 N., R.7 W.,—Dependent resurvey, and metes-and-bounds survey and the subdivision of sections 2, 4, 14, 22 and 26 under (Group 974), accepted January 19, 2001 to meet certain administrative needs of the BLM, Redding Field Office.

T. 22 S., R. 36 E.,—Dependent resurvey and subdivision of section 28, under (Group 1334) accepted February 26, 2001, to meet certain administrative needs of the BLM, Bakersfield Field Office.

T. 3 S., R. 16 E.,—Supplemental plat of section 11, accepted March 20, 2001, to meet certain administrative needs of the BLM, Folsom Field Office.

T 7. N., R. 26 E.,—Supplemental plat of sections 31 and 32, accepted April 9, 2001, to meet certain administrative needs of the BLM, Bishop Field Office.

T. 7 N., R. 25 E.,—Supplemental plat of section 34 accepted April 9, 2001, to meet certain administrative needs of the BLM, Bishop Field Office.

T. 26 S., R. 37 E.,—Supplemental plat of the Northwest quarter of section 6, accepted April 23, 2001, to meet certain administrative needs of the BLM, Bakersfield Field Office.

T. 26 N., R. 8 E.,—Supplemental plat of the West half of section 9, accepted April 18, 2001, to meet certain administrative needs of BLM, Eagle Lake Field Office.

T. 5 S., R. 24 E.,—Supplemental plat of section 7, accepted April 30, 2001, to meet certain administrative needs of the BLM, Palm Springs-South Coast Field Office.

T. 45 N., R. 8 W.,—Supplemental plat of the SE quarter of section 23, SW quarter of section 24 and section 26, accepted May 3, 2001, to meet certain administrative needs of the BLM, Redding Field Office.

T 5 S., R. 26 E.,—Amended protraction diagram for unsurveyed area, accepted May 8, 2001, to meet certain administrative needs of the BLM, Bakersfield Field Office.

T. 5 S., R. 27 E.,—Amended protraction diagram for unsurveyed area, accepted May 8, 2001, to meet certain administrative needs of the BLM, Bakersfield Field Office.

T. 26 N., R. 17 E.,—Dependent resurvey and subdivision of sections, accepted May 31, 2001, to meet certain administrative needs of the BLM, Eagle Lake Field Office.

T. 4 S., R. 27 E.,—Amended protraction diagram of unsurveyed portion, accepted June 8, 2001, to meet certain administrative needs of the BLM, Bakersfield Field Office.

T. 4 S., R. 26 E.,—Amended protraction diagram of unsurveyed area, accepted June 8, 2001, to meet certain administrative needs of the BLM, Bakersfield Field Office.

T. 42 N., R 8 E.,—Dependent resurvey and subdivision of sections, accepted June 18, 2001, to meet certain administrative needs of BLM, Alturas Field Office. T. 2 S., R 23 E.,—Protraction Diagram , accepted June 21, 2001 to meet certain administrative needs of BLM, Folsom Field Office.

T. 4 S.,R 24 E.,—Amended protraction diagram, accepted June 21, 2001, to meet certain administrative needs of BLM, Bakersfield field office.

T. 2 S., R 25 E.,—Amended protraction diagram for unsurveyed area, accepted June 21, 2001, to meet certain administrative needs of BLM, Folsom Field Office.

T. 3 S., R 21 E.,—Protraction diagram, accepted June 21, 2001, to meet certain administrative needs of BLM, Folsom Field Office.

T. 3 S., R 24 E.,—Amended protraction diagram for unsurveyed area, accepted June 21, 2001, to meet certain administrative needs of BLM, Bakersfield Field Office.

T. 3 S., R 24 E.,—Amended protraction diagram for unsurveyed area, accepted June 21, 2001, to meet certain administrative needs of BLM, Bakersfield Field Office.

T. 3 S., R 22 E.,—Protraction diagram, accepted June 21, 2001, to meet certain administrative needs of BLM, Bakersfield Field Office.

T. 3 S., R 25 E.,—Amended protraction diagram, accepted June 21, 2001, to meet certain administrative needs of BLM, Bakersfield Field Office.

T. 26 N., R 8 E.,—Amended Supplemental plat of the West half of section 9, accepted June 21, 2001, to meet certain administrative needs of BLM, Eagle Lake Field Office.

T. 1 S., R 27 E.,—Amended protraction diagram, accepted June 21, 2001, to meet certain needs of BLM, Bishop Field Office.

T. 2 S., R 22 E.,—Amended protraction diagram for unsurveyed area, accepted June 21, 2001, to meet certain administrative needs of BLM, Folsom Field Office.

T. 2 S., R 21 E.,—Amended protraction diagram for unsurveyed area, accepted June 21, 2001, to meet certain administrative needs of BLM, Folsom Field Office.

T. 1 S., R 25 E.,—Amended protraction diagram for unsurveyed area, accepted June 21, 2001, to meet certain administrative needs of BLM, Folsom Field Office and Bishop Field Office.

T. 3 S., R 26 and 27 E.,—Amended protraction diagram for unsurveyed area, accepted June 21, 2001, to meet certain administrative need of BLM, Bakersfield Field Office.

T. 4 S., R 25 E.,—Amended protraction diagram for unsurveyed area, accepted June 21, 2001, to meet certain administrative needs of BLM, Bakersfield Field Office.

T. 1 N., R 25 E.,—Amended protraction diagram for unsurveyed area, accepted June 21, 2001, to meet certain administrative needs of BLM, Folsom Field Office and Bishop Field Office.

T. 1 S., R 28 E.,—Dependent Resurvey and subdivision of Section 1, accepted June 29, 2001, to meet certain administrative needs of BLM, Bishop Field Office.

T. 1 S., R 16 E.,—Supplemental plat of the North Half of the North East quarter of Section 30, accepted July 13, 2001, to meet certain needs of BLM, Folsom Field Office.

T. 17 S., R 29 E.,—Supplemental plat of the North Half of the South East quarter of Section 5, accepted July 26, 2001, to meet certain needs of BLM, Bakersfield Field Office.

T. 10 N., R 8 W.,—Dependent resurvey and survey, under (group 1366), accepted August 6, 2001, to meet certain administrative needs of the BLM, Ukiah Field Office.

T. 5 S., R 30 E.,—Amended Protraction Diagram, accepted August 24, 2001, to meet certain administrative needs of the BLM, Bishop Field Office.

T. 6 N., R 30 E.,—Amended Protraction Diagram, accepted September 6, 2001, to meet certain administrative needs of the BLM, Bishop Field Office.

T. 11 S., R 21 E.,—Dependent resurvey, metes and bounds, and subdivision of Section 6, under (Group 1322), accepted September 28, 2001, to meet certain administrative needs of the BLM, Folsom Field Office.

T. 14 N., R 9 W.,—Dependent Resurvey, Subdivision of Section 32, and informative traverse in sections 29 and 32, under (Group 1245), accepted November 30, 2001, to meet certain administrative needs of the BLM, Ukiah Field Office.

San Bernardino Meridian, California

T. 27 N., R. 1 E.,—Dependent Resurvey and metes and bounds survey of tract 37, under (group 1337), accepted January 17, 2001, to meet certain administrative needs of the NPS, Death Valley National Park.

T. 10 N., R 1 W.,—Supplemental plat of section 30, accepted March 13, 2001, to meet certain administrative needs of the BLM, Barstow Field Office.

T. 3 N., R 1 W.,—Supplemental plat of section 2, accepted July 25, 2001, to meet certain administrative needs of the BLM, Barstow Field Office.

T. 14 N., R 18 E.,—Supplemental plat of Section 30, accepted July 25, 2001, to meet certain needs of the BLM, Needle Field Office.

T. 4 N., R 1 W.,—Amended Supplemental plat of section 31, accepted October 31, 2001, to meet certain needs of the BLM, Barstow Field Office.

T. 2 N., R 4 E.,—Dependent Resurvey and Subdivision of Sections, under (group 1231) accepted November 30, 2001, to meet certain needs of the BLM, Barstow Field Office.

T. 6 N., R 15 W.,—Dependent Resurvey of a portion of the North boundary and Homestead Entry No.89, under (group 1201) accepted November 30, 2001, to meet certain needs of the BLM, Palm Springs-South Coast Field Office.

All of the above listed survey plats are now the basic record for describing the lands for all authorized purposes. The survey plats have been placed in the open files in the BLM, California State Office, and are available to the public as a matter of information. Copies of the survey plats and related field notes will be furnished to the public upon payment of the appropriate fee.

Dated: February 21, 2002.
Lance J. Bishop,
Chief, Branch of Geographic Services.

[FR Doc. 02-7835 Filed 4-1-02; 8:45 am]

BILLING CODE 4310-40-P